SECURITIES AND EXCHANGE COMMISSION

Proposed Collection; Comment Request

Upon Written Request, Copies Available From: Securities and Exchange Commission, Office of Filings and Information Services, Washington, DC 20549

New: Survey on Reciprocal Subpoena Enforcement

SEC File No. 270-479

OMB Control No. 3235-new

Notice is hereby give that, pursuant to the Paperwork Reduction Act of 1995 (44 U.S.C. 3501 et seq.), the Securities and Exchange Commission (“Commission”) is soliciting comments on the collection of information summarized below. The Commission plans to submit this proposed survey to the Office of Management and Budget for approval.

The survey is called the Securities and Exchange Commission Survey on Reciprocal Subpoena Enforcement. The staff created the survey pursuant to a Congressional directive in the Securities Litigation Uniform Standards Act of 1998 (“1998 Act”). The 1998 Act requires the Commission, in consultation with state securities commissions (or similar agencies) to “seek to encourage the adoption of State laws providing for reciprocal enforcement by State securities commissions of subpoenas issued by another State securities commission* * *” The 1998 Act further requires the SEC to submit a report to Congress by November 2000 which identifies the states that have adopted such laws, describes the actions the Commission and the state commissions have taken to promote such laws, and identifies any further actions the Commission recommends for such purposes.

The survey seeks information regarding (1) the states' laws authorizing providing assistance to other states with subpoenas, (2) the states' experiences in seeking assistance from other states with their subpoenas, (3) the states' experiences in requesting assistance from other states with their subpoenas and (4) each state's proposals and suggestions regarding reciprocal subpoena enforcement. The Commission will use the information gathered in the survey to write the report to Congress.

The survey will be sent to all of the states, the District of Columbia and Puerto Rico. It is estimated that there will be approximately 52 respondents to the survey and that each full response will take approximately 30 minutes. Thus, the total reporting burden of the survey will be about 26 hours. The survey is voluntary and may be completed at the option of the recipient. Responses will not be kept confidential. An agency may not sponsor, conduct, or require response to an information collection unless a currently valid OMB control number is displayed.

Pursuant to 44 U.S.C. 3506(c)(2)(B), the Commission solicits comments to: (1) Evaluate whether the proposed collection of information is necessary for the proper performance of the functions of the agency, including whether the information will have practical utility; (ii) evaluate the accuracy of the agency's estimate of the burden of the proposed collection of information, (iii) enhance the quality, utility, and clarity of the information to be collected; and (iv) minimize the burden of the collection of information on those who are to respond, including through the use of automated collection techniques or other forms of information technology. Consideration will be given to comments and suggestions submitted in writing within 60 days of this publication.

Please direct your written comments to Michael E. Bartrell, Associate Executive Director, Office of Information Technology, Securities and Exchange Commission, 450 5th Street, N.W. Washington, DC 20549.

Dated: February 3, 2000.
Margaret H. McFarland,
Deputy Secretary.

[FR Doc. 00-3434 Filed 2-14-00; 8:45 am]

BILLING CODE 8010-01-M